DEPARTMENT OF TRANSPORTATION

Surface Transportation Board

[STB Finance Docket No. 34864 (Sub-No. 1)]

BNSF Railway Company—Temporary Trackage Rights Exemption—The Kansas City Southern Railway Company

The Kansas City Southern Railway Company (KCSR), pursuant to a written trackage rights agreement entered into between KCSR and BNSF Railway Company (BNSF), has agreed to provide BNSF with non-exclusive, overhead, temporary trackage rights, to expire on July 15, 2006, over KCSR's trackage between Jefferson, TX, and Metro, TX, a total distance of 200.9 miles. The original trackage rights granted in BNSF Railway Company—Temporary Trackage Rights Exemption—The Kansas City Southern Railroad Company, STB Finance Docket No. 34864 (STB served on May 4, 2006), covered the same line, but were due to expire on June 22, 2006. The purpose of this transaction is to modify the temporary overhead trackage rights exempted in STB Finance Docket No. 34864 to extend the expiration date from June 22, 2006, to July 15, 2006.

The transaction is scheduled to be consummated on the effective date of this notice. The modified temporary overhead trackage rights will allow BNSF to continue to bridge its train service while BNSF's main lines are out of service due to certain programmed track, roadbed and structural maintenance.

As a condition to this exemption, any employees affected by the acquisition of the temporary rights will be protected by the conditions imposed in Norfolk and Western Ry. Co.—Trackage Rights—BN, 354 I.C.C. 605 (1978), as modified in Mendocino Coast Ry., Inc.—Lease and Operate, 360 I.C.C. 653 (1980), and any employee affected by the discontinuance of those trackage rights will be protected by the conditions set out in Oregon Short Line R. Co.—Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction.

An original and 10 copies of all pleadings, referring to STB Finance Docket No. 34864 (Sub-No. 1), must be filed with the Surface Transportation Board, 1925 K Street, NW., Washington, DC 20423-0001. In addition, a copy of each pleading must be served on Sidney L. Strickland, Jr., Sidney Strickland and Associates, PLLC, 3050 K Street, NW., Suite 101, Washington, DC 20007.

Board decisions and notices are available on our Web site at http://www.stb.dot.gov.

Decided: July 5, 2006.
By the Board, David M. Konschnik, Director, Office of Proceedings.
Vernon A. Williams,
Secretary.

[FR Doc. E6-10829 Filed 7-11-06; 8:45 am]

BILLING CODE 4915-01-P